EXPORT-IMPORT BANK OF THE UNITED STATES

Notice of Open Special Meeting of the Sub-Saharan Africa Advisory Committee (SAAC) of the Export-Import Bank of the United States (Export-Import Bank)

Summary: The Sub-Saharan Africa Advisory Committee was established by Public Law 105-121, November 26, 1997, to advise the Board of Directors on the development and implementation of policies and programs designed to support the expansion of the Bank's financial commitments in Sub-Saharan Africa under the loan, guarantee and insurance programs of the Bank. Further, the committee shall make recommendations on how the Bank can facilitate greater support by U.S. commercial banks for trade with Sub-Saharan Africa.

Time and Place: February 7, 2007 at 9:30 to 12 p.m. The meeting will be held at the Export-Import Bank in Room 1143, 811 Vermont Avenue, NW., Washington, DC 20571.

Agenda: The meeting will include updates on Africa outreach specifically including Ex-Im Bank Chairman James Lambright's February 1st and 2nd participation in the GTR/Standard Chartered “Africa Trade & Investment 2007” conference in Cape Town; a general discussion on the restrictions within which Ex-Im Bank must operate in any given country; the Bank's specialized U.S. outreach initiative relative to Nigeria; a presentation of the Bank's on-line Business Application Project; the Africa focus at Ex-Im Bank's April 12th and 13th annual meeting; and an ethics presentation for the new sub-Saharan Africa Advisory Committee members.

Public Participation: The meeting will be open to public participation, and the last 10 minutes will be set aside for oral questions or comments. Members of the public may also file written statement(s) before or after the meeting. If any person wishes auxiliary aids (such as a sign language interpreter) or other special accommodations, please contact, prior to February 7, 2007, Barbara Ransom, Room 1241, 811 Vermont Avenue, NW., Washington, DC 20571, Voice: (202) 565-3525 or TDD (202) 565-3377.

Further Information: For further information, contact Barbara Ransom, Room 707, 811 Vermont Avenue, NW., Washington, DC 20571, (202) 565-3525.

Kamil Cook,
Deputy General Counsel.

[FR Doc. 07-145 Filed 1-17-06; 8:45 am]

BILLING CODE 6690-01-M